DEPARTMENT OF TRANSPORTATION

Research and Special Programs Administration

[Docket Number: RSPA-98-4957]

Pipeline Safety Reports of Abandoned Underwater Pipelines

AGENCY: Research and Special Programs Administration.

ACTION: Notice and request for public comments.

SUMMARY: This notice requests public participation in the Office of Management and Budget (OMB) approval process regarding the renewal of an existing Research and Special Programs Administration's (RSPA) collection of information for Pipeline Safety Reports of Abandoned Underwater Pipelines. Specifically, public comment is requested on ways to minimize the burden of this collection of information on the public, along with other factors. RSPA intends to request OMB approval for renewal of this information collection under the Paperwork Reduction Act of 1995 and 5 CFR Part 1320.

DATES: Comments on this notice must be received by July 19, 2002 to be assured of consideration.

ADDRESSES: Interested persons are invited to send comments in duplicate to the U.S. Department of Transportation, Dockets Facility, Plaza 401, 400 Seventh Street, SW., Washington, DC 20590-0001. To submit comments electronically, log on to the following Internet Web address http://dms.dot.gov. Click on “Help & Information” for instructions on how to file a document electronically. Comments can be reviewed at the dockets facility which is open from 10 a.m. to 5 p.m., Monday through Friday, except on Federal holidays, when the facility is closed. Comments must identify docket number of this notice. Persons should submit the original documents and one (1) copy. Persons wishing to receive confirmation of receipt of their comments must include a stamped, self-addressed postcard. Please identify the docket and notice numbers shown in the heading of this notice. Documents pertaining to this notice can be viewed in this docket. The docket can also be viewed electronically at http://dms.dot.gov.

FOR FURTHER INFORMATION CONTACT: Marvin Fell, (202) 366-6205, to ask questions about this notice; or write by e-mail to marvin.fell@rspa.dot.gov.

SUPPLEMENTARY INFORMATION: Title: Pipeline Safety Reports of Abandoned Underwater Pipelines

Type of Request: Renewal of existing information collection.

Abstract: Underwater pipelines are being abandoned at an increasing rate as older facilities reach the end of their useful life. This trend is expected to continue. In 1992, Congress responded to this issue by amending the Pipeline Safety Act (49 U.S.C. 60108(c)(6)(B)) which directs the Secretary of Transportation to require operators of an offshore pipeline facility or a pipeline crossing navigable waters to report the abandonment to the Secretary of Transportation in a way that specifies whether the facility has been abandoned properly according to applicable Federal and State requirements. RSPA's regulations for abandonment reporting can be found at 49 CFR 192.727 and 195.402.

Respondents: Gas and hazardous liquid pipeline operators.

Estimated Number of Respondents: 400.

Estimated Number of Responses per Respondent: 1.

Estimated Total Annual Burden on Respondents: 2,400 hours.

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

All timely written comments to this notice will be summarized and included in the request for OMB approval. All comments will also be available to the public in the docket.

Issued in Washington, DC on May 14, 2002.
Stacey L. Gerard,
Associate Administrator for Pipeline Safety.

[FR Doc. 02-12547 Filed 5-17-02; 8:45 am]

BILLING CODE 4910-60-P